DEPARTMENT OF HEALTH AND HUMAN SERVICES

Health Resources and Services Administration

Administration for Children and Families

Agency Information Collection Activities: Submission to OMB for Review and Approval; Public Comment Request

AGENCY: Health Resources and Services Administration, HHS. Administration for Children and Families, HHS.

ACTION: Notice.

SUMMARY: In compliance with Section 3507(a)(1)(D) of the Paperwork Reduction Act of 1995, the Health Resources and Services Administration (HRSA) and the Administration for Children and Families (ACF) has submitted an Information Collection Request (ICR) to the Office of Management and Budget (OMB) for review and approval. Comments submitted during the first public review of this ICR will be provided to OMB. OMB will accept further comments from the public during the review and approval period.

DATES: Comments on this ICR should be received no later than October 14, 2015.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 594-4306.

SUPPLEMENTARY INFORMATION: Information Collection Request Title: The Maternal, Infant, and Early Childhood Home Visiting Program Quarterly Data Request.

OMB No. 0906-xxxx—NEW.

Abstract: The Maternal, Infant, and Early Childhood Home Visiting Program (MIECHV), administered by HRSA in close partnership with the Administration for Children and Families (ACF), supports voluntary, evidence-based home visiting services during pregnancy and to parents with young children up to kindergarten entry. States, Territories, nonprofit organizations (in some circumstances), and Tribal entities are eligible to receive funding from the MIECHV Program and have the flexibility to tailor the program to serve the specific needs of the communities that they serve.

Need and Proposed Use of the Information: In order to continuously monitor and provide oversight, quality improvement guidance, and technical assistance to MIECHV grantees, HHS is seeking to collect two categories of information: Service Utilization Data and Corrective Action Benchmark Data. This information will be used to monitor and provide continued oversight for grantee performance and to target technical assistance resources to grantees.

Service Utilization Data is made up of four data categories:

(1) Program Capacity: HHS is seeking to collect information related to the overall home visiting service capacity (i.e., number of families) that grantees are able to provide to the communities they work in, the actual capacity being utilized at certain points in time, as well as updates of home visiting enrollment in number of families.

(2) Place-Based Services: HHS is seeking to collect information to identify the geographic areas where home visiting services are being provided. Specifically, data on zip code and locally defined communities are being requested from MIECHV grantees in order to allow grantees an opportunity to provide data that identifies geographic areas that are most salient to their respective programs. Currently, HHS collects information related to service area zip code on an annual basis (OMB-0915-0357, expiration 7/31/2017). HHS plans to allow the grantee to describe the service community at the neighborhood, town, or city level where services are provided based on their judgment of local salience, rather than solely at the county level, which is how geographic services are currently reported.

(3) Family Engagement: Currently HHS collects information related to family engagement (attrition) on an annual basis (OMB-0915-0357, expiration 7/31/2017). However, HHS has learned through grants monitoring and technical assistance efforts that family engagement is an ongoing and complex issue for home visiting service providers. In order to monitor grantee performance and target technical assistance efforts most effectively, HHS proposes that, in addition to annual reporting, MIECHV grantees will report quarterly on the existing family engagement metrics they are currently required to submit to HHS. These metrics are currently defined as the number of participants currently receiving services who have completed the program, who stopped services before completion, and other participants.

(4) Staff Recruitment and Retention: HHS is seeking to collect information related to the number of home visitors and other support staff who are currently employed directly or through sub-contracted grant funds. Staff recruitment and retention is a key component to the successful delivery of home visiting services and to maximizing the number of cases each local implementing agency can reach. MIEHCV grantees will report quarterly on the actual number of staff and current vacancies in three categories: home visitors, home visiting supervisors, and other staff.

Corrective Action Benchmark Data (Improvement Action Benchmark Data): Corrective Action Constructs consist of one category of data. MIECHV grantees that have not shown improvement in four of six Benchmark areas identified in the authorizing legislation after 3 years of grant funding are required to complete corrective action plans (Improvement Action Technical Assistance Plans), subject to approval by the Secretary, in order to show how they plan to achieve improvement in deficient areas. Currently HHS collects information related to selected Benchmark areas from all MIECHV grantees on an annual basis (OMB-0915-0357, expiration 7/31/2017). In order to monitor grantee improvement toward meeting these Benchmarks, HHS is seeking to collect information from grantees on implementation of their Improvement Action Plans on a more frequent basis. HHS proposes that state, territory, and nonprofit organization grantees with Improvement Action Plans report the Benchmark measures for which they were deemed as not showing improvement on a quarterly basis. It is estimated that approximately 9 grantees per year will require this more frequent reporting. Tribal grantees that did not demonstrate improvement after 3 years will continue to develop program improvement plans as currently required.

Likely Respondents: MIECHV grantees.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Service Utilization Form—State, Territory, and Tribal MIECHV Grantees | ¹ 125 | 4 | 500 | 24 | 12,000
Improvement Action Benchmark Form—State and Territory MIECHV Grantees | ² 9 | 4 | 36 | 40 | 1,440
Total | 125 |  | 536 |  | 13,440
¹ This figures includes two responses for jurisdictions which received both formula and competitive funding in FY 2015.
² Only includes MIECHV state, territory, and non-profit grantees that did not demonstrate improvement in 4 of 6 Benchmark areas after 3 years of grant funding.

Dated: September 2, 2015.
Jackie Painter,
Director, Division of the Executive Secretariat, Health Resources and Services Administration.
Robert Sargis,
Reports Clearance Officer, Administration for Children and Families.

[FR Doc. 2015-23033 Filed 9-11-15; 8:45 am]

BILLING CODE 4165-15-P